DEPARTMENT OF HOMELAND SECURITY

Coast Guard

46 CFR Part 1

[USCG-2006-24520]

RIN 1625-AB03

Coast Guard Organization; Activities Europe

AGENCY: Coast Guard, DHS.

ACTION: Final rule.

SUMMARY: This rule makes non-substantive changes in Coast Guard regulations that describe the agency's organization for marine safety functions, and how decisions can be appealed within the agency. The changes are necessitated by a recent organizational change that placed Activities Europe under the operational and administrative control of the Coast Guard's Atlantic Area Command. This rule will have no substantive effect on the regulated public.

DATES: This final rule is effective June 22, 2006.

ADDRESSES: Comments and material received from the public, as well as documents mentioned in this preamble as being available in the docket, are part of docket USCG-2006-24520 and are available for inspection or copying at the Docket Management Facility, U.S. Department of Transportation, room PL-401, 400 Seventh Street, SW., Washington, DC, between 9 a.m. and 5 p.m., Monday through Friday, except Federal holidays. You may also find this docket on the Internet at http://dms.dot.gov.

FOR FURTHER INFORMATION CONTACT: If you have questions on this rule, call Mr. D. Skewes, Coast Guard, telephone 202-267-0418 or e-mail DSkewes@comdt.uscg.mil. If you have questions on viewing the docket, call Renee V. Wright, Program Manager, Docket Operations, telephone 202-493-0402.

SUPPLEMENTARY INFORMATION:

Regulatory Information

We did not publish a Notice of Proposed Rulemaking (NPRM) for this regulation. Under both 5 U.S.C. 553(b)(A) and (b)(B), the Coast Guard finds that this rule is exempt from notice and comment rulemaking requirements of the Administrative Procedure Act because the changes it makes involve agency organization, procedure, and practice, and are non-substantive. This rule consists only of organizational and conforming amendments. These changes will have no substantive effect on the public; therefore, it is unnecessary to publish an NPRM. Under 5 U.S.C. 553(d)(3), the Coast Guard finds that, for the same reasons, good cause exists for making this rule effective less than 30 days after publication in the Federal Register.

Discussion of the Rule

A recent organizational change transferred operational and administrative control of Coast Guard Activities Europe from the Coast Guard's Fifth District to its Atlantic Area Command and deleted “Marine Inspection Office” from the unit's name. The only impact on the public is to change the route for appeals from decisions or actions of Activities Europe, from the Fifth District Commander to the Atlantic Area Commander. Existing Coast Guard marine safety regulations describe the agency's organization and appeals process, but uses language that presupposes that all marine inspection offices are under district office control. This rule amends the regulatory language to take into account Activities Europe's new chain of command.

Regulatory Evaluation

This rule is not a “significant regulatory action” under section 3(f) of Executive Order 12866, Regulatory Planning and Review, and does not require an assessment of potential costs and benefits under section 6(a)(3) of that Order. The Office of Management and Budget has not reviewed it under that Order. We expect the economic impact of this rule to be so minimal that a full Regulatory Evaluation is unnecessary. This rule involves internal agency practices and procedures and makes non-substantive changes that will not impose any costs on the public.

Small Entities

Under the Regulatory Flexibility Act (5 U.S.C. 601-612), we have considered whether this rule would have a significant economic impact on a substantial number of small entities. The term “small entities” comprises small businesses, not-for-profit organizations that are independently owned and operated and are not dominant in their fields, and governmental jurisdictions with populations of less than 50,000. This rule does not require a general NPRM and, therefore, is exempt from the requirements of the Regulatory Flexibility Act. Although this rule is exempt, we have reviewed it for potential economic impact on small entities. This rule will have no substantive effect on the regulated public. Therefore, the Coast Guard certifies under 5 U.S.C. 605(b) that this rule will not have a significant economic impact on a substantial number of small entities.

Collection of Information

This rule calls for no new collection of information under the Paperwork Reduction Act of 1995 (44 U.S.C. 3501-3520).

Federalism

A rule has implications for federalism under Executive Order 13132, Federalism, if it has a substantial direct effect on State or local governments and would either preempt State law or impose a substantial direct cost of compliance on them. We have analyzed this rule under that Order and have determined that it does not have implications for federalism.

Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. Though this rule will not result in such an expenditure, we do discuss the effects of this rule elsewhere in this preamble.

Taking of Private Property

This rule will not effect a taking of private property or otherwise have taking implications under Executive Order 12630, Governmental Actions and Interference with Constitutionally Protected Property Rights.

Civil Justice Reform

This rule meets applicable standards in sections 3(a) and 3(b)(2) of Executive Order 12988, Civil Justice Reform, to minimize litigation, eliminate ambiguity, and reduce burden.

Protection of Children

We have analyzed this rule under Executive Order 13045, Protection of Children from Environmental Health Risks and Safety Risks. This rule is not an economically significant rule and does not create an environmental risk to health or risk to safety that may disproportionately affect children.

Indian Tribal Governments

This rule does not have tribal implications under Executive Order 13175, Consultation and Coordination with Indian Tribal Governments, because it does not have a substantial direct effect on one or more Indian tribes, on the relationship between the Federal Government and Indian tribes, or on the distribution of power and responsibilities between the Federal Government and Indian tribes.

Energy Effects

We have analyzed this rule under Executive Order 13211, Actions Concerning Regulations That Significantly Affect Energy Supply, Distribution, or Use. We have determined that it is not a “significant energy action” under that order because it is not a “significant regulatory action” under Executive Order 12866 and is not likely to have a significant adverse effect on the supply, distribution, or use of energy. The Administrator of the Office of Information and Regulatory Affairs has not designated it as a significant energy action. Therefore, it does not require a Statement of Energy Effects under Executive Order 13211.

Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies. This rule does not use technical standards. Therefore, we did not consider the use of voluntary consensus standards.

Environment

We have analyzed this rule under Commandant Instruction M16475.lD and Department of Homeland Security Management Directive 5100.1, which guide the Coast Guard in complying with the National Environmental Policy Act of 1969 (NEPA) (42 U.S.C. 4321-4370f), and have concluded that there are no factors in this case that would limit the use of a categorical exclusion under section 2.B.2 of the Instruction. Therefore, this rule is categorically excluded, under figure 2-1, paragraphs (34)(a) and (b), of the Instruction from further environmental documentation because this rule involves editorial, procedural, and internal agency functions. An “Environmental Analysis Check List” and a “Categorical Exclusion Determination” are available in the docket where indicated under ADDRESSES.

List of Subjects in 46 CFR Part 1

Administrative practice and procedure, Organization and functions (Government agencies), Reporting and recordkeeping requirements.

For the reasons discussed in the preamble, the Coast Guard amends 46 CFR part 1 as follows:

PART 1—ORGANIZATION, GENERAL COURSE AND METHODS GOVERNING MARINE SAFETY FUNCTIONS

1. The authority citation for part 1 continues to read as follows:

Authority: 5 U.S.C. 552; 14 U.S.C. 633; 46 U.S.C. 7701; 46 U.S.C. Chapter 93; Public Law 107-296, 116 Stat. 2135; Department of Homeland Security Delegation No. 0170.1; § 1.01-35 also issued under the authority of 44 U.S.C. 3507.

2. Amend § 1.01-05 by adding paragraph (c) to read as follows:

§ 1.01-05 Definitions of terms used in this part.

* * * * *

(c) The term Area Commander means an officer of the Coast Guard designated as such by the Commandant to command all Coast Guard activities within an Area.

3. Amend § 1.01-10 by revising paragraph (b) introductory text to read as follows:

§ 1.01-10 Organization.

* * * * *

(b) To carry out the regulatory and enforcement aspects of marine safety, the staff officers designated in this paragraph are assigned to the Commandant. The chain of military command is directly from the Commandant to the District Commanders, except for marine safety regulatory and enforcement matters within the area of responsibility of Coast Guard Activities Europe. For Activities Europe, the chain of command is from the Commandant to the Atlantic Area Commander. The staff officers at Headquarters act only on the basis of the Commandant's authority and direction.

* * * * *

§ 1.01-15 [Amended]

4. Amend § 1.01-15 as follows:

a. Revise paragraph (a); and

b. Revise the first sentence in paragraph (b) to read as follows:

§ 1.01-15 Organization; areas and districts.

(a) To assist the District Commander, and the Atlantic Area Commander with respect to Activities Europe, in carrying out the regulatory and enforcement aspects of marine safety, there is assigned to each District Commander and to the Atlantic Area Commander a staff officer designated as Chief, Marine Safety Division. The chain of military command is from the District Commander to each Officer in Charge, Marine Inspection, within the district and from the Atlantic Area Commander to the Officer in Charge, Activities Europe. The Chief of the Marine Safety Division is a staff officer assigned to the District Commanders and Atlantic Area Commander, and acts only on the basis of the authority and direction of the District Commanders, and the Atlantic Area Commanders with respect to Activities Europe.

* * * * *

(b) The Officers in Charge, Marine Inspection, in the Coast Guard districts, under the supervision of the District Commanders, and the Officer in Charge, Activities Europe, under the supervision of the Atlantic Area Commander are in charge of the marine inspection offices in the various ports and have command responsibilities with assigned marine safety zones for the performance of duties with respect to the inspection, enforcement and administration of navigation and vessel inspection laws, and rules and regulations governing marine safety. * * *

* * * * *

5. Amend § 1.01-25 by revising paragraph (b) to read as follows:

§ 1.01-25 General flow of functions.

* * * * *

(b)(1) The general course and method by which the functions (other than those dealing with suspension and revocation of licenses, certificates or documents described in paragraph (c) of this section) concerning marine safety activities are channeled, begins with the Officer in Charge, Marine Inspection, at the local Marine Safety Office. From this Officer the course is to the Chief, Marine Safety Division, on the staff of the District Commander, and then to the District Commander. From the District Commander, the course is to the Chief of one of the offices with Marine Safety and Environmental Protection at Headquarters.

(2) For Activities Europe, the course is from the Officer in Charge, Activities Europe to the staff of the Atlantic Area Commander, then to the Atlantic Area Commander, and then to the Chief of one of the offices with Marine Safety and Environmental Protection at Headquarters.

* * * * *

6. Section 1.03-20 is revised to read as follows:

§ 1.03-20 Appeals from decisions or actions of an OCMI.

Any person directly affected by a decision or action of an OCMI may, after requesting reconsideration of the decision or action by the cognizant OCMI, make a formal appeal of that decision or action, via the office of the cognizant OCMI, to the District Commander of the district in which the office of the cognizant OCMI is located, or in the case of the Officer in Charge, Activities Europe, to the Atlantic Area Commander, in accordance with the procedures contained in § 1.03-15 of this subpart.

Dated: June 16, 2006.
S.G. Venckus,
Chief, Office of Regulations and Administrative Law, United States Coast Guard.

[FR Doc. E6-9864 Filed 6-21-06; 8:45 am]

BILLING CODE 4910-15-P